DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer at (240) 276-0166.

Proposed Project: Government Performance and Results Act (GPRA) Client/Participant Outcomes Measure—(OMB No. 0930-0208)—Revision

SAMHSA is requesting approval for a revision of the CSAT Client-level GPRA instrument to collect performance and program monitoring data of its substance use services grant programs. Currently, the information collected from this instrument is entered and stored in SAMSHA's Performance Accountability and Reporting System, which is a real-time, performance management system that captures information on the substance abuse treatment and mental health services delivered in the United States. Continued approval of this information collection will allow SAMHSA to continue to meet Government Performance and Results Modernization Act of 2010 reporting requirements that quantify the effects and accomplishments of its discretionary grant programs, which are consistent with OMB guidance.

SAMHSA will use the data for annual reporting required by GPRA and comparing baseline with follow-up and discharge data. The additional information collected through this process will allow SAMHSA to: (1) report results of these performance outcomes; (2) maintain consistency with SAMHSA-specific performance domains, and (3) assess the accountability and performance of its discretionary grant programs including a focus on health equity.

Currently, there are 379,037 total burden hours in the OMB-approved CSAT Client-level GPRA instrument. SAMHSA is now requesting an increase to 631,682 burden hours. The increase of 252,645 burden hours is due to the following:

• Additional time allocated for interviews, but also improved estimates of the number of clients who would likely consent to complete the interview; and

• Additional time allocated for administrative collection of data by grantees, including the information that is collected for all clients regardless of whether they completed the client-portion of the interview or not.

The estimated time to complete the baseline, follow-up, and discharge interviews is 45 (0.75) minutes each. This includes the completion of the administrative sections of the tool for all clients including those who decline an interview. The estimated time to complete the SBIRT program-specific measures was increased from 12 (0.2) minutes to 15 minutes (0.25).

Table 1—Estimates of Annualized Hour Burden
SAMHSA tool | Number of respondents | Responses per respondent | Total number of responses | Burden hours per response | Total burden hours | Hourly wage [¹] | Total hour cost
Baseline Interview Includes SBIRT Brief TX, Referral to TX, and Program-specific questions | 337,857 | 1 | 337,857 | 0.75 | 253,393 | $28.89 | $7,320,523
Follow-Up Interview with Program-specific questions [²] | 270,286 | 1 | 270,286 | 0.75 | 202,715 | 28.89 | 5,856,436
Discharge Interview with Program-specific questions [³] | 175,686 | 1 | 175,686 | 0.75 | 131,765 | 28.89 | 3,806,431
SBIRT Program—Screening Only | 150,296 | 1 | 150,296 | 0.17 | 25,550 | 28.89 | 738,140
SBIRT Program—Brief Intervention Only Baseline | 31,481 | 1 | 31,481 | 0.25 | 7,870 | 28.89 | 227,364
SBIRT Program—Brief Intervention Only Follow-Up ² | 25,184 | 1 | 25,184 | 0.25 | 6,296 | 28.89 | 181,891
SBIRT Program—Brief Intervention Only Discharge ³ | 16,370 | 1 | 16,370 | 0.25 | 4,093 | 28.89 | 118,247
CSAT Total | 1,007,160 |  | 1,007,160 |  | 631,682 |  | 18,249,032
[1] The hourly wage estimate is $28.89 based on the Occupational Employment and Wages, Mean Hourly Wage Rate for 21-1011 Substance Abuse and Behavioral Disorder Counselors = $28.89/hr. as of May 11, 2023. (http://www.bls.gov/oes/current/oes211011.htm. Accessed on June 20, 2024.)
[2] It is estimated that 80% of baseline clients will complete this interview.
[3] It is estimated that 52% of baseline clients will complete this interview. Substance Abuse and Mental Health Services Administration (SAMHSA): Treating Concurrent Substance Use Among Adults. SAMHSA Publication No. PEP21-06-02-002. Rockville, MD: National Mental Health and Substance Use Policy Laboratory. Substance Abuse and Mental Health Services Administration, 2021.
Note: Numbers may not add to the totals due to rounding and some individual participants completing more than one form.

Send comments to SAMHSA Reports Clearance Officer, 5600 Fishers Lane, Room 15E45, Rockville, Maryland 20857, OR email a copy to samhsapra@samhsa.hhs.gov. Written comments should be received by November 12, 2024.

Alicia Broadus,
Public Health Advisor.

[FR Doc. 2024-20434 Filed 9-10-24; 8:45 am]

BILLING CODE 4162-20-P